DEPARTMENT OF DEFENSE

Department of the Navy

[Docket ID USN-2010-0017]

Privacy Act of 1974; System of Records

AGENCY: Department of the Navy, DoD.

ACTION: Notice to add a system of records.

SUMMARY: The Department of Navy proposes to add a system of records to its inventory of record systems subject to the Privacy Act of 1974 (5 U.S.C. 552a), as amended.

DATES: This notice will be effective on June 7, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Miriam Brown-Lam at (202) 685-6545.

SUPPLEMENTARY INFORMATION: The Office of the Secretary of Defense notices for systems of records subject to the Privacy Act of 1974 (5 U.S.C. 552a), as amended, have been published in the Federal Register and are available from the Department of the Navy, Chief of Naval Operation, DNS 36, 2000 Navy Pentagon, Washington, DC 20350-2000.

The proposed systems reports, as required by 5 U.S.C. 552a(r) of the Privacy Act of 1974, as amended, were submitted on April 26, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: May 3, 2010.
Mitchell S. Bryman,
Alternate OSD Federal Register Liaison Officer, Department of Defense.

N05520-6 DoD

SYSTEM NAME:

Law Enforcement Defense Data Exchange.

SYSTEM LOCATION:

Naval Criminal Investigative Service, 716 Sicard St., Washington, DC 20388-5380.

CATEGORIES OF INDIVIDUALS COVERED BY THE SYSTEM:

Any individual involved in, or suspected of being involved in a crime incident or criminal investigation. In addition, individuals who provide information that is relevant to the investigation, such as subjects, suspects, associates, victims, witnesses, persons of interest; and/or any individual named in an arrest, booking, parole and/or probation report.

CATEGORIES OF RECORDS IN THE SYSTEM:

The records in the system consist of incident, offense and case reports, arrest, booking, incarceration, and parole and/or probation information from Federal, State, local and tribal law enforcement entities. Identifying information in this system include, individual's name; sex; race; citizenship; date and place of birth; address(es); telephone number(s); Social Security Number (SSN) or other unique identifiers; physical description to include, height, weight, hair color, eye color, gender; photographs; occupation and vehicle identifiers.

AUTHORITY FOR MAINTENANCE OF THE SYSTEM:

5 U.S.C. 301, Departmental Regulations; 10 U.S.C. 136, Under Secretary of Defense for Personnel and Readiness; 10 U.S.C. 3013, Secretary of the Army; 10 U.S.C. 8013, Secretary of the Air Force, 10 U.S.C. 5013, Secretary of the Navy; 47 U.S.C. 605; Secretary of the Navy Instruction 5430.107, Mission and Functions of the Naval Criminal Investigative Service and E.O. 9397 (SSN), as amended.

PURPOSE(S):

To enhance the interconnectivity of criminal law enforcement databases in order to improve the sharing of multiple levels of criminal law enforcement data. This system of records will strengthen the criminal justice objectives for crime analysis, law enforcement administration, and strategic/tactical operations in investigating, reporting, solving, and preventing crime.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To any criminal, civil, or regulatory law enforcement authority (whether Federal, State, local, territorial, tribal, or foreign) where the information is relevant to the recipient entity's law enforcement agency for their situational awareness.

To a Federal, State, local, joint, tribal, foreign, international, or other public agency/organization, or to any person or entity in either the public or private sector, domestic or foreign, where such disclosure may facilitate the apprehension of fugitives, the location of missing persons, the location and/or return of stolen property or similar criminal justice objectives.

To appropriate agencies, entities, and persons when (1) The DoD suspects or has confirmed that the security or confidentiality of information in the system of records has been compromised; (2) the DoD has determined that as a result of the suspected or confirmed compromise there is a risk of harm to economic or property interests, identity theft, or fraud, or harm to the security or integrity of this system, other systems, or programs (whether maintained by the Department or another agency or entity) that rely upon the compromised information; and (3) the disclosure made to such agencies, entities, and persons is reasonably necessary to assist in connection with the DoD efforts to respond to the suspected or confirmed compromise and prevent, minimize, or remedy such harm.

To those agencies, entities and persons the DoD may consider necessary or appropriate incident to the ensuring the continuity of government functions in the event of any actual or potential significant disruption of normal operations.

The DoD `Blanket Routine Uses' set forth at the beginning of Department of Navy compilation of systems of records notices apply to this system.

POLICIES AND PRACTICES FOR STORING, RETRIEVING, ACCESSING, RETAINING, AND DISPOSING OF RECORDS IN THE SYSTEM:

STORAGE:

Electronic storage media.

RETRIEVABILITY:

Individual's name, Social Security Number (SSN), and other personal identifying data collected on involved individuals, places and things and/or events.

SAFEGUARDS:

Records are maintained in a controlled facility. Physical entry is restricted by the use of locks, guards, and is accessible only to authorized personnel. Access to records is limited to individuals responsible for servicing the record in performance of their official duties and who are properly screened and cleared for need-to-know. Access is restricted by passwords, which are changed periodically.

RETENTION AND DISPOSAL:

This system of records is a compilation of information from other Department of Defense law enforcement agency systems of records. To that extent these records are subject to retention and disposal requirements claimed in the original primary system of which they are a part.

SYSTEM MANAGER(S) AND ADDRESS:

Director, Naval Criminal Investigative Service, 716 Sicard St., Washington, DC 20388-5380.

NOTIFICATION PROCEDURES:

Individuals seeking to determine whether information about themselves is contained in this system of records should address written inquiries to the FOIA/Privacy Act Section, Naval Criminal Investigative Service, 716 Sicard St., Washington, DC 20388-5380.

Requestors must provide full name, sufficient details to permit locating pertinent records, and signature. The system manager will require a notarized signature as a means of proving the identity of the individual requesting access to the records.

RECORD ACCESS PROCEDURES:

Individuals seeking access to information about themselves contained in this system of records should address written inquiries to the FOIA/Privacy Act Section, Naval Criminal Investigative Service, 716 Sicard St., Washington, DC 20388-5380.

Requests must contain the individual's full name, sufficient details to permit locating pertinent records, and signature. The system manager will require a notarized signature as a means of proving the identity of the individual requesting access to the records.

CONTESTING RECORD PROCEDURES:

The Navy's rules for accessing records, and for contesting contents and appealing initial agency determinations are published in Secretary of the Navy Instruction 5211.5; 32 CFR part 701; or may be obtained from the system manager.

RECORD SOURCE CATEGORIES:

Information contained in the DDEX system is obtained from Federal, State, local and tribal law enforcement agencies.

EXEMPTIONS CLAIMED FOR THE SYSTEM:

Parts of this system may be exempt pursuant to 5 U.S.C. 552a(j)(2) if the information is compiled and maintained by a component of the agency that performs as its principle function any activity pertaining to the enforcement of criminal laws.

Records maintained solely for statistical research or program evaluation purposes and which are not used to make decisions on the rights, benefits, or entitlement of an individual except for census records which may be disclosed under 13 U.S.C. 8, may be exempt pursuant to 5 U.S.C. 552a(k)(4).

Investigatory material compiled solely for the purpose of determining suitability, eligibility, or qualifications for federal civilian employment, military service, federal contracts, or access to classified information may be exempt pursuant to 5 U.S.C. 552a(k)(5), but only to the extent that such material would reveal the identity of a confidential source.

Testing or examination material used solely to determine individual qualifications for appointment or promotion in the federal or military service, if the disclosure would compromise the objectivity or fairness of the test or examination process may be exempt pursuant to 5 U.S.C. 552a(k)(6), if the disclosure would compromise the objectivity or fairness of the test or examination process.

Evaluation material used to determine potential for promotion in the Military Services may be exempt pursuant to 5 U.S.C. 552a(k)(7), but only to the extent that the disclosure of such material would reveal the identity of a confidential source.

To the extent that copies of exempt records from those other systems of records are entered into this system of records, the same exemptions apply for the records as claimed in the original primary systems of records which they are a part.

[FR Doc. 2010-10672 Filed 5-5-10; 8:45 am]

BILLING CODE 5001-06-P